OFFICE OF PERSONNEL MANAGEMENT

Excepted Service

AGENCY: Office of Personnel Management.

ACTION: Notice.

SUMMARY: This gives notice of positions placed under Schedule C in the excepted service, as required by Civil Service Rule VI, Exceptions from the Competitive Service.

FOR FURTHER INFORMATION CONTACT: Pam Shivery, Director, Washington Service Center (202) 606-1015.

SUPPLEMENTARY INFORMATION: The Office of Personnel Management published its last monthly notice updating appointing authorities established or revoked under the Excepted Service provisions of 5 CFR 213 on February 22, 2001 (66 FR 11189). Individual authorities established under Schedule C between January 1, 2001, and January 31, 2001, appear in the listing below. Future notices will be published on the fourth Tuesday of each month, or as soon as possible thereafter. A consolidated listing of all authorities as of June 30, is published each year.

Schedule C

The following Schedule C authorities were established during January 2001:

Commission on Civil Rights

Special Assistant to the Staff Director. Effective January 18, 2001.

Department of Commerce

Special Assistant to the Director, Office of Business Liaison. Effective January 8, 2001.

Deputy Director of Advance to the Deputy Chief of Staff for External Affairs. Effective January 8, 2001.

Special Assistant to the Director, Office of Public Affairs and Press Secretary. Effective January 11, 2001.

Special Assistant to the Director, Office of Business Liaison. Effective January 11, 2001.

Special Assistant to the Director of Public Affairs and Press Secretary. Effective January 12, 2001.

Confidential Assistant to the Deputy Chief of Staff for External Affairs. Effective January 16, 2001.

Special Assistant to the Deputy Assistant Secretary, Domestic Operations. Effective January 16, 2001.

Special Assistant to the Director, White House Liaison. Effective January 17, 2001.

Senior Advisor to the Director, Secretariat for Electronic Commerce. Effective January 18, 2001.

Department of Education

Confidential Assistant to the Deputy Assistant Secretary for Intergovernmental and Constituent Relations. Effective January 2, 2001.

Department of Energy

Special Assistant to the Under Secretary. Effective January 12, 2001.

Special Assistant to the Director, Office of Management and Administration. Effective January 12, 2001.

Special Assistant to the Director, Office of Management and Administration. Effective January 12, 2001.

Special Assistant to the Assistant Secretary for Fossil Energy. Effective January 12, 2001.

Special Assistant for Communications to the Assistant Secretary for Environmental Management. Effective January 12, 2001.

Director of Communications to the Assistant Secretary, Office of Energy Efficiency and Renewable Energy. Effective January 12, 2001.

Special Assistant to the Director, Office of Policy. Effective January 17, 2001.

Department of Housing and Urban Development

Staff Assistant to the Director of Executive Scheduling. Effective January 4, 2001.

Department of Labor

Special Assistant to the Assistant Secretary, Occupational Safety and Health Administration. Effective January 2, 2001.

Special Assistant to the Assistant Secretary, Occupational Safety and Health Administration. Effective January 2, 2001.

Department of Transportation

Senior Congressional Liaison Officer to the Director, Office of Congressional Affairs. Effective January 11, 2001.

Environmental Protection Agency

Communications Specialist to the Assistant Administrator for Air and Radiation. Effective January 2, 2001.

Communication Specialist to the Assistant Administrator for Water. Effective January 2, 2001.

Equal Employment Opportunity Commission

Attorney-Advisor (Civil Rights) to the Chairwoman. Effective January 18, 2001.

Farm Credit Administration

Executive Assistant to a Member, Farm Credit Administration Board. Effective January 11, 2001.

Federal Deposit Insurance Corporation

Confidential Assistant to the Deputy to the Chairman. Effective January 12, 2001.

Federal Housing Finance Board

Special Assistant to the Chairman. Effective January 19, 2001.

Federal Trade Commission

Confidential Assistant to a Commissioner. Effective January 19, 2001.

National Credit Union Administration

Special Assistant to the Executive Assistant for Governmental Relations. Effective January 16, 2001.

Staff Assistant to a Member. Effective January 18, 2001.

Special Assistant to the Executive Assistant for Governmental Relations. Effective January 18, 2001.

National Endowment for the Arts

Special Assistant to the Director, Office of Congressional and White House Liaison. Effective January 2, 2001.

Occupational Safety and Health Review Commission

Confidential Assistant to a Member (Commissioner), Occupational Safety and Health Review Commission. Effective January 17, 2001.

Authority: 5 U.S.C. 3301 and 3302; E.O. 10577, 3 CFR 1954-1958 Comp., P.218.

Office of Personnel Management.
Steven R. Cohen,
Acting Director.

[FR Doc. 01-8839 Filed 4-10-01; 8:45 am]

BILLING CODE 6325-01-P